DEPARTMENT OF HEALTH AND HUMAN SERVICES

Health Care Financing Administration

[HCFA-1060-N2]

RIN 0938-AJ57

Medicaid Program; Additional Comment Period for the Schedules of Per-Visit and Per-Beneficiary Limitations on Home Health Agency Costs for Cost Reporting Periods Beginning on or After October 1, 1999 and Portions of Cost Reporting Periods Beginning October 1, 2000

AGENCY: Health Care Financing Administration (HCFA), HHS.

ACTION: Notice of an additional 15-day comment period for notice with comment period.

SUMMARY: This notice announces an additional 15-day comment period for a notice with comment period published in the Federal Register on August 5, 1999 (64 FR 42766). In that notice, we set forth cost limitations for cost reporting periods beginning on or after October 1, 1999 and portions of cost reporting periods beginning before October 1, 2000.

DATE: The comment period closes 5 p.m. On March 8, 2000.

ADDRESSESES: Mail written comments (one original and three copies) to the following address: Health Care Financing Administration, Department of Health and Human Services, Attention: HCFA-1060-NC, P.O. Box 8018, Baltimore, Maryland 21207-8018

If you prefer, you may deliver your written comments (one original and three copies) to one of the following addresses: Room 443-G, Hubert H. Humphrey Building, 200 Independence Avenue, SW., Washington, D.C. 20201, or

Room C5-16-03, Central Building, 7500 Security Boulevard, Baltimore, Maryland 21244-1850

Comments may also be submitted electronically to the following E-mail address: HCFA1060NC@hcfa.gov. E-mail comments must include the full name and address of the sender and must be submitted to the reference address in order to be considered. All comments must be incorporated in the E-mail message because we may not be able to access attachments.

Because of staffing and resource limitations, we cannot accept comments by facsimile (FAX) transmission. In commenting, please refer to the file code HCFA-1060-NC. Comments received timely will be available for public inspection as they are received, generally beginning approximately 3 weeks after publication of a document, in Room 443-G of the Department's offices at 200 Independence Avenue, SW., Washington, D.C., on Monday through Friday of each week from 8:30 a.m. to 5 p.m. (Phone: (202) 690-7890).

FOR FURTHER INFORMATION CONTACT: Michael Bussacca, (410) 786-4602.

SUPPLEMENTARY INFORMATION: On August 5, 1999, we published a notice with comment period in the Federal Register (64 FR 42766) setting forth revised schedules of limitations on home health agency costs that may be paid under the Medicare program for cost reporting periods beginning on or after October 1, 1999 and portions of cost reporting periods beginning before October 1, 2000. These limitations replaced the limitations that were set forth in our August 11, 1998 notice with comment period (63 FR 42912). Under the August 5, 1999 notice with comment period, written or electronic comments were acceptable. The comment period ended on October 4, 1999. Due to technical difficulties, however, it is unclear whether or not we received all of the electronic comments that may have been submitted to us. Therefore, we are announcing an additional 15-day comment period from the date of publication of this notice (that is, March 8, 2000.

Authority: Section 1861 (v)(1)(L) of the Social Security Act (42 U.S.C. 1395x(v)(1)(L)); section 4207(d) of Pub. L. 101-508 (42 U.S.C. 1395x (note)).

(Catalog of Federal Domestic Assistance Program No. 93.773 Medicare—Hospital Insurance)

Dated: December 6, 1999.
Nancy-Ann Min DeParle,
Administrator, Health Care Financing Administration.

[FR Doc. 00-4071 Filed 2-18-00; 8:45 am]

BILLING CODE 4120-01-M